NATIONAL CAPITAL PLANNING COMMISSION

Guidelines and Submission Requirements for Antennas on Federal Property in the National Capital Region

AGENCY: National Capital Planning Commission.

ACTION: Proposed commission procedure revision.

SUMMARY: The National Capital Planning Commission has prepared a draft of proposed revisions to its current Guidelines and Submission Requirements for Antennas on Federal Property in the National Capital Region developed in compliance with the Telecommunications Act of 1966, the President's Executive Memorandum on “Facilitating Access to Federal Property for the Siting of Mobile Services Antennas” dated August 10, 1995, the General Services Administration's “Placement of Commercial Antennas on Federal Property” dated June 11, 1997, and Public Law 106-113. The Commission requests public review and comment on the draft proposed guidelines and submission requirements during a 60-day comment period that begins on the date of this notice.

DATES: Submit comments on or before July 23, 2001.

ADDRESSES: All comments should be addressed to: National Capital Planning Commission, Attention: Susan M. Hinton, 401 9th Street, NW, Suite 500 North Lobby, Washington, DC 20576. Comments may also be sent by e-mail to susan.hinton@ncpc.gov. Faxes may be sent to (202) 482-7272. All comments will be fully considered.

FOR FURTHER INFORMATION CONTACT: Ms. Susan Hinton, Community Planner, National Capital Planning Commission, (202) 482-7231 or Mr. Ash Jain, General Counsel, National Capital Planning Commission, (202) 482-7270. A copy of the revised procedures may be requested and is also available at the Commission's Internet website: www.ncpc.gov/what.html

SUPPLEMENTARY INFORMATION: The Commission has drafted revisions to the agency's Guidelines and Submission Requirements for Antennas on Federal Property in the National Capital Region. This revised document addresses necessary changes to the Commission's existing guidelines and submission requirements, which describe how the National Capital Planning Commission will review proposals to locate antennas on federal property in the National Capital Region. The revised guidelines and submission requirements, when adopted in their final form, would supersede the current guidelines and submission requirements approved by the Commission on January 7, 1988 and amended on April 6, 1989, and November 6, 1997.

Dated: May 3, 2001.
Ash Jain,
General Counsel and Congressional Liaison, National Capital Planning Commission.

[FR Doc. 01-12877 Filed 5-21-01; 8:45 am]

BILLING CODE 7520-01-U